DEPARTMENT OF HEALTH AND HUMAN SERVICES

National Instituted of Health

National Institute of Nursing Research; Amended Notice of Meeting

Notice is hereby given of a change in the meeting of the National Institute of Nursing Research Special Emphasis Panel, July 11, 2001, 8 a.m. to July 11, 2001, 5 p.m., Ramada Inn Rockville, 1775 Rockville Pike, Rockville, MD, 20852 which was published in the Federal Register on June 29, 2001, FR 66:34701-34702.

The meeting will be held on 7/30/2001 instead of 7/11/2001. The meeting is closed to the public.

Dated: July 16, 2001.
LaVerne Y. Stringfield,
Director, Office of Federal Advisory Committee Policy.

[FR Doc. 01-18270 Filed 7-20-01; 8:45 am]

BILLING CODE 4140-01-M